DEPARTMENT OF THE INTERIOR

National Park Service

Fire Management Plan, Final Environmental Impact Statement, Whiskeytown National Recreation Area, Shasta County, CA; Notice of Approved Record of Decision

Summary: Pursuant to § 102(2)(C) of the National Environmental Policy Act of 1969 (Pub. L. 91-190, as amended) and the implementing regulations promulgated by the Council of Environmental Quality (40 CFR part 1505.2), the Department of the Interior, National Park Service has prepared and approved a Record of Decision concerning the revision of the Fire Management Plan for Whiskeytown National Recreation Area. The purpose of the fire management plan is to provide comprehensive direction for park fire management activities over the next 10 years. The selected plan prescribes goals to be achieved and the methods for achieving them during this period. The formal no-action period was officially initiated June 18, 2004, with the U.S. Environmental Protection Agency's Federal Register notification of the filing and availability of the Final Environmental Impact Statement.

Decision: As soon as practical the park will begin to implement as its updated Fire Management Plan the “multiple strategy” alternative (identified and analyzed in the Draft and Final EIS as Alternative IV). The selected plan will focus on restoring high elevation logged plant communities and reducing the risk of high severity wildland fire by decreasing forest stand density, reducing surface fuels, and attempting to restore fire as a natural disturbance process to the greatest extent feasible. Implementation of these strategies combines use of prescribed fire and mechanical treatment, and includes both pile and broadcast burns.

Project sizes may range from 0.5 to 1,000 acres, and will occur in all vegetation types. Up to 2,200 acres could be treated in each year of implementation. To facilitate these operations, the park's fire operations cache will be centrally located at the Oak Bottom area.

An additional component of the Draft and Final EIS was the amending of the 2001 General Management Plan (GMP), to allow for future consideration of replacing or modernizing the existing park administrative center within the park. Under the selected alternative, the park's GMP is amended to allow the park to consider construction a new administrative building at the existing park headquarters site on Kennedy Memorial Drive (subsequent environmental compliance, with opportunity for public involvement, would be necessary to address this option within a full range of alternatives).

The selected plan was determined to be the “environmentally preferred” alternative. Since the Fire Management Plan/Final Environmental Impact Statement is programmatic in nature, project- or site-specific mitigations may need to be developed and implemented to ensure resource protection efforts reduce or avoid adverse effects. During the fire management planning phase, subject matter experts will review evaluate existing databases and maps, and, if necessary, conduct additional surveys to field verify natural or cultural resource conditions. Additional consultation with the U.S. Fish and Wildlife Service, the California State Historic Preservation Officer, the Redding Rancheria, and others may be required and will be documented in the project planning phase.

This selected plan and three alternatives were identified and analyzed in the Draft and Final EIS. In addition to the selected alternative, the environmental analysis addressed: Alternative/No Action (the current fire management program); Alternative II Prescribed Fire Dominated (the fire program would have focused on the intentional use of fire through the application of prescribed fire to meet ecological restoration and maintenance objectives, and to reduce hazardous fuels throughout the park); and Alternative III Suppression Dominated (all natural and human-ignited wildland fires would have been suppressed). The full spectrum of foreseeable environmental consequences was assessed, and appropriate mitigation measures identified for each alternative.

Conclusion: The selected plan (Alternative IV) provides the most comprehensive and effective method among the alternatives considered for meeting the NPS purposes, goals, and criteria for managing fire and fire risks in Whiskeytown National Recreation Area and for meeting national environmental and fire policy goals. The selection of Alternative IV, as detailed in the Fire Management Plan/Final Environmental Impact Statement, will not result in the impairment of park resources nor violate the Organic Act of 1916, and will allow the park to most effectively conserve park resources and provide for the long term enjoyment of visitors.

Interested parties desiring to review the Record of Decision may obtain a complete copy by contacting the Superintendent, Whiskeytown National Recreation Area, P.O. Box 188, Whiskeytown, CA 96095 (530) 242-3400.

Dated: August 25, 2004.
Jonathan B. Jarvis,
Regional Director, Pacific West Region.

[FR Doc. 04-23742 Filed 10-21-04; 8:45 am]

BILLING CODE 4312-52-P